DEPARTMENT OF TRANSPORTATION

Federal Aviation Administration

14 CFR Part 71

[Docket No. FAA-2015-6231; Airspace Docket No. 15-AEA-12]

Amendment of Class D Airspace and Class E Airspace; Lynchburg, VA

AGENCY: Federal Aviation Administration (FAA), DOT.

ACTION: Final rule; delay of effective date, correction.

SUMMARY: This action changes the effective date of a final rule published in the Federal Register of February 4, 2016, amending Class E surface area airspace at Lynchburg, VA, by adjusting the geographic coordinates at Lynchburg Regional-Preston Glenn Field Airport, and Falwell Airport. This correction updates the geographic coordinates of the above airports in Class D airspace, Class E airspace designated as an extension, and Class E airspace extending upward from 700 feet above the surface, and adds Class D Airspace to the title.

DATES: This correction is effective 0901 UTC, May 26, 2016, and the effective date of the rule amending 14 CFR part 71, published on February 4, 2016 (81 FR 5901), is delayed to 0901 UTC May 26, 2016. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The Federal Register published a final rule amending the geographic coordinates of Lynchburg Regional-Preston Glenn Field Airport and Falwell Airport, Class E surface airspace, Lynchburg, VA. (81 FR 5901, February 4, 2016) Docket No. FAA-2015-6231. Subsequent to publication, the FAA discovered the geographic coordinates of both airports in Class D Airspace, Class E airspace designated as an extension, and Class E airspace extending upward from 700 feet above the surface required an adjustment as well.

Class D and Class E airspace designations are published in paragraphs 5000, 6002, 6004, and 6005, respectively, of FAA Order 7400.9Z dated August 6, 2015, and effective September 15, 2015, which is incorporated by reference in 14 CFR part 71.1. The Class D and Class E airspace designations listed in this document will be published subsequently in the Order. These are administrative corrections and do not affect the controlled airspace boundaries or operating requirements supporting operations in the Lynchburg, VA area.

Availability and Summary of Documents for Incorporation by Reference

This document amends FAA Order 7400.9Z, Airspace Designations and Reporting Points, dated August 6, 2015, and effective September 15, 2015. FAA Order 7400.9Z lists Class A, B, C, D, and E airspace areas, air traffic service routes, and reporting points.

Correction to Final Rule

Accordingly, pursuant to the authority delegated to me, in the Federal Register of February 4, 2016 (81 FR 5901) FR Doc. FAA-206-02033, Amendment of Class E Airspace; Lynchburg, VA, is corrected as follows:

§ 71.1 [Amended]

On page 5901, column 1, line 22, remove the following text: “Amendment of Class E Airspace for Lynchburg, VA” and add in its place: “Amendment of Class D and Class E Airspace; Lynchburg, VA”. On page 5902, column 1, after line 51, add the following text:

Paragraph 5000 Class D Airspace.

* * * * *

AEA VA D Lynchburg, VA [Corrected]

Lynchburg Regional-Preston Glenn Field Airport, Lynchburg, VA

(Lat. 37°19′31″ N., long. 79°12′04″ W.)

Falwell Airport, VA

(Lat. 37°22′41″ N., long. 79°07′20″ W.)

That airspace extending upward from the surface to and including 3,400 feet MSL within a 4.5-mile radius of Lynchburg Municipal-Preston Glenn Field Airport, excluding the portion within a .5-mile radius of Falwell Airport. This Class D airspace area is effective during the specific dates and times established in advance by a Notice to Airmen. The effective date and time will thereafter be published continuously in the Airport/Facility Directory.

Paragraph 6004 Class E Airspace Designated as an Extension to a Class D Surface Area.

* * * * *

AEA VA E4 Lynchburg, VA [Corrected]

Lynchburg Regional-Preston Glenn Field Airport, Lynchburg, VA

(Lat. 37°19′31″ N., long. 79°12′04″ W.)

Lynchburg VORTAC

(Lat. 37°15′17″ N., long. 79°14′11″ W.)

That airspace extending upward from the surface within 2.7 miles each side of the Lynchburg VORTAC 020° and 200° radials extending from the 4.5-mile radius of Lynchburg Municipal-Preston Glenn Field Airport to 1 mile south of the VORTAC, and within 1.8 miles each side of the Lynchburg VORTAC 022° radial extending from the 4.5-mile radius of the airport to 11.3 miles northeast of the VORTAC. This Class E airspace area is effective during the specific dates and times established in advance by a Notice to Airmen. The effective date and time will thereafter be published continuously in the Airport/Facility Directory.

Paragraph 6005 Class E Airspace Areas Extending Upward From 700 Feet or More Above the Surface of the Earth.

* * * * *

AEA VA E5 Lynchburg, VA [Corrected]

Lynchburg Regional-Preston Glenn Field Airport, Lynchburg, VA

(Lat. 37°19′31″ N., long. 79°12′04″ W.)

Lynchburg VORTAC

(Lat. 37°15′17″ N., long. 79°14′11″ W.)

Falwell Airport, VA

(Lat. 37°22′41″ N., long. 79°07′20″ W.)

That airspace extending upward from 700 feet above the surface within a 6.5-mile radius of Lynchburg Regional-Preston Glenn Field, and within 2.7 miles each side of the Lynchburg VORTAC 200° radial extending from the 6.5-mile radius to 7.4 miles south of the VORTAC, and within 3.1 miles each side of the Lynchburg VORTAC 022° radial extending from the 6.5-mile radius to 21.3 miles northeast of the VORTAC, and within a 6.5-mile radius of Falwell Airport.

Issued in College Park, Georgia, on March 23, 2016.
Jim Dickinson,
Acting Manager, Operations Support Group, Eastern Service Center, Air Traffic Organization.

[FR Doc. 2016-07079 Filed 3-29-16; 8:45 am]

BILLING CODE 4910-13-P